DEPARTMENT OF ENERGY

Federal Energy Regulatory Commission

Combined Notice of Filings

August 15, 2008.

Take notice that the Commission has received the following Natural Gas Pipeline Rate and Refund Report filings:

Docket Numbers: RP97-81-049.

Applicants: Kinder Morgan Interstate Gas Trans. LLC.

Description: Kinder Morgan Interstate Gas Transmission, LLC submits the amended and restated negotiated rate agreement and Twenty-Third Revised Sheet 4G.01 et al. to FERC Gas Tariff, Fourth Revised Volume 1-A.

Filed Date: 08/14/2008.

Accession Number: 20080815-0052.

Comment Date: 5 p.m. Eastern Time on Tuesday, August 26, 2008.

Docket Numbers: RP02-361-072.

Applicants: Gulfstream Natural Gas System, L.L.C.

Description: Gulfstream Natural Gas System submits Original Sheet 8.02n et al. to FERC Gas Tariff, Original Volume 1, to become effective 8/7/08.

Filed Date: 08/07/2008.

Accession Number: 20080808-0228.

Comment Date: 5 p.m. Eastern Time on Wednesday, August 20, 2008.

Docket Numbers: RP07-174-005.

Applicants: Columbia Gulf Transmission Company.

Description: Columbia Gulf Transmission Company submits Tenth Revised Sheet 216 et al. to FERC Gas Tariff, Second Revised Volume No. 1, to become effective 9/1/08.

Filed Date: 08/12/2008.

Accession Number: 20080814-0052.

Comment Date: 5 p.m. Eastern Time on Monday, August 25, 2008.

Docket Numbers: RP07-340-006.

Applicants: Columbia Gas Transmission Corporation.

Description: Columbia Gas Transmission Corporation submits Seventh Revised Sheet 390 et al. to FERC Gas Tariff, Second Revised Volume 1, to become effective 9/1/08.

Filed Date: 08/12/2008.

Accession Number: 20080814-0051.

Comment Date: 5 p.m. Eastern Time on Monday, August 25, 2008.

Docket Numbers: RP08-421-001.

Applicants: Petal Gas Storage, L.L.C.

Description: Petal Gas Storage, LLC submits its FERC Gas Tariff 1 tariff sheets in appendix A to be effective 7/25/08.

Filed Date: 08/13/2008.

Accession Number: 20080814-0282.

Comment Date: 5 p.m. Eastern Time on Monday, August 25, 2008.

Docket Numbers: RP08-497-000.

Applicants: Transwestern Pipeline Company, LLC.

Description: Transwestern Pipeline Company, LLC submits Sixth Revised sheet 5 et al., to become effective 10/1/08.

Filed Date: 08/12/2008.

Accession Number: 20080813-0299.

Comment Date: 5 p.m. Eastern Time on Monday, August 25, 2008.

Docket Numbers: RP08-498-000.

Applicants: CenterPoint Energy—Mississippi River.

Description: CenterPoint Energy—Mississippi River Transmission Corp submits Sixty-Third Revised Sheet 5 et al. to FERC Gas Tariff, Third Revised Volume 1.

Filed Date: 08/14/2008.

Accession Number: 20080815-0053.

Comment Date: 5 p.m. Eastern Time on Tuesday, August 26, 2008.

Docket Numbers: RP08-499-000.

Applicants: Eastern Shore Natural Gas Company.

Description: Eastern Shore Natural Gas Company submits Twenty-Second Revised Sheet 4 et al. to FERC Gas Tariff, Second Revised Volume 1, to become effective 10/1/08.

Filed Date: 08/14/2008.

Accession Number: 20080815-0054.

Comment Date: 5 p.m. Eastern Time on Tuesday, August 26, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-19289 Filed 8-19-08; 8:45 am]

BILLING CODE 6717-01-P